DEPARTMENT OF TRANSPORTATION

Federal Aviation Administration

14 CFR Part 39

[Docket No. FAA-2006-24095; Directorate Identifier 2006-CE-21-AD]

RIN 2120-AA64

Airworthiness Directives; DORNIER LUFTFAHRT GmbH Models 228-100, 228-101, 228-200, 228-201, 228-202, and 228-212 Airplanes

AGENCY: Federal Aviation Administration (FAA), Department of Transportation (DOT).

ACTION: Notice of proposed rulemaking (NPRM).

SUMMARY: We propose to adopt a new airworthiness directive (AD) for all DORNIER LUFTFAHRT GmbH (DORNIER) Models 228-100, 228-101, 228-200, 228-201, 228-202, and 228-212 airplanes. This proposed AD would require you to repetitively inspect the wiring in the flight deck overhead panels (locations 5VE and 6VE) for chafing and damage and repair any chafed or damaged wires. Regardless of the results of each inspection, this proposed AD would require you to assure correct installation of the wiring in the flight deck overhead panels by reattaching or replacing the wire tie attachment holders and securing any loose wires to the wire tie attachment holders with plastic wire ties. This proposed AD results from mandatory continuing airworthiness information (MCAI) issued by the airworthiness authority for Germany. We are proposing this AD to detect, correct, and prevent chafed or damaged wires in the flight deck overhead panels, which could result in short-circuiting of related wiring. This condition could lead to electrical failure of affected systems and potential fire in the flight deck.

DATES: We must receive comments on this proposed AD by April 27, 2006.

ADDRESSES: Use one of the following addresses to comment on this proposed AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: (202) 493-2251.

• Hand Delivery: Room PL-401 on the plaza level of the Nassif Building, 400 Seventh Street, SW., Washington, DC, between 9 a.m. and 5 p.m., Monday through Friday, except Federal holidays.

For service information identified in this proposed AD, contact RUAG Services GmbH, P.O. Box 1253, D-82231 Wessling; telephone: (08153) 302506; fax: (08153) 304601.

FOR FURTHER INFORMATION CONTACT: Karl Schletzbaum, Aerospace Engineer, FAA, Small Airplane Directorate, 901 Locust, Room 301, Kansas City, Missouri 64106; telephone: (816) 329-4146; fax: (816) 329-4090.

SUPPLEMENTARY INFORMATION:

Comments Invited

We invite you to send any written relevant data, views, or arguments regarding this proposed AD. Send your comments to an address listed under the ADDRESSES section. Include the docket number, “FAA-2006-24095; Directorate Identifier 2006-CE-21-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact we receive concerning this proposed AD.

Discussion

The Luftfahrt-Bundesamt (LBA), which is the airworthiness authority for Germany, notified FAA that an unsafe condition may exist on all DORNIER Models 228-100, 228-101, 228-200, 228-201, 228-202, and 228-212 airplanes. The LBA reports that vibrations are causing the plastic wire tie attachment holder in the flight deck overhead panels to lose its adhesiveness and become detached.

When the wire tie attachment holder becomes detached, the wiring in the flight deck overhead panels is loose and may rub against the pins of the switches in the overhead panel causing chafing and damage to the wiring insulation.

This condition, if not corrected, could result in electrical failure of affected systems and potential fire in the flight deck.

Relevant Service Information

We have reviewed RUAG AOT Dornier 228, All Operators Telefax service information No. AOT-228-24-028, Date of Issue: November 9, 2005.

The service information specifies:

• Repetitively inspecting the wiring in the flight deck overhead panels (locations 5VE and 6VE) for chafing and damage;

• Repairing any chafed or damaged wire(s); and

• Assuring correct installation of the wiring in the flight deck overhead panels by reattaching or replacing the wire tie attachment holders and securing any loose wires to the wire tie attachment holders with plastic wire ties.

Foreign Airworthiness Authority Information

The LBA classified the service information as mandatory and issued German AD Number D-2005-438, Effective Date: December 14, 2005, to ensure the continued airworthiness of these airplanes in Germany.

These DORNIER Models 228-100, 228-101, 228-200, 228-201, 228-202, and 228-212 airplanes are manufactured in Germany and are type-certificated for operation in the United States under the provisions of section 21.29 of the Federal Aviation Regulations (14 CFR 21.29) and the applicable bilateral airworthiness agreement.

Under this bilateral airworthiness agreement, the LBA has kept us informed of the situation described above.

FAA's Determination and Requirements of the Proposed AD

We are proposing this AD because we have examined the LBA's findings, evaluated all information and determined the unsafe condition described previously is likely to exist or develop on other products of the same type design that are certificated for operation in the United States.

This proposed AD would require you to repetitively inspect the wiring in the flight deck overhead panels (locations 5VE and 6VE) for chafing and damage and repair any chafed or damaged wires. Regardless of the results of each inspection, this proposed AD would require you to assure correct installation of the wiring in the flight deck overhead panels by reattaching or replacing the wire tie attachment holders and securing any loose wires to the wire tie attachment holders with plastic wire ties.

Costs of Compliance

How many airplanes would this proposed AD impact? We estimate that this proposed AD would affect 14 airplanes in the U.S. registry.

What would be the cost impact of this proposed AD on owners/operators of the affected airplanes? We estimate the following costs to do the proposed inspection:

Labor cost | Parts cost | Total cost per airplane | Total cost on U.S. operators
2 work hours × $80 per hour = $160 | Not applicable | $160 | $160 × 14 = $2,240

We estimate the following costs to do any necessary repairs that would be required based on the results of the proposed inspection. We have no way of determining the number of airplanes that may need this repair:

Labor cost | Parts cost | Total cost per airplane
3 work hours × $80 per hour = $240 | $100 | $240 + $100 = $340

Note: The cure time for the adhesive that is recommended in the service information is 48 hours at 25 degrees Celsius (77 degrees Fahrenheit) or 2 hours at 65 degrees Celsius (149 degrees Fahrenheit).

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

Examining the AD Docket

You may examine the AD docket that contains the proposed AD, the regulatory evaluation, any comments received, and other information on the Internet at http://dms.dot.gov; or in person at the Docket Management Facility between 9 a.m. and 5 p.m., Monday through Friday, except Federal holidays. The Docket Office (telephone (800) 647-5227) is located at the street address stated in the ADDRESSES section. Comments will be available in the AD docket shortly after receipt.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

DORNIER LUFTFAHRT GmbH: Docket No. FAA-2006-24095; Directorate Identifier 2006-CE-21-AD.

Comment Due Date

(a) We must receive comments on this airworthiness directive (AD) action by April 27, 2006.

Affected ADs

(b) None.

Applicability

(c) This AD affects Models 228-100, 228-101, 228-200, 228-201, 228-202, and 228-212 airplanes, all serial numbers, that are certificated in any category.

Unsafe Condition

(d) This AD results from mandatory continuing airworthiness information (MCAI) issued by the airworthiness authority for Germany. We are issuing this AD to detect, correct, and prevent chafed or damaged wires in the flight deck overhead panels, which could result in short-circuiting of related wiring. This condition could lead to electrical failure of affected systems and potential fire in the flight deck.

Compliance

(e) To address this problem, you must do the following:

Actions | Compliance | Procedures
(1) Inspect the wiring in the flight deck overhead panels (locations 5VE and 6VE) for chafing and damage | Within the next 100 hours time-in-service (TIS) after the effective date of this AD. Repetitively inspect thereafter at intervals not to exceed 12 months | Follow RUAG AOT Dornier 228, All Operators Telefax service information No. AOT-228-24-028, Date of Issue: November 9, 2005.
(2) If you find any chafed or damaged wires during any inspection required in paragraph (e)(1) of this AD, repair the affected wire(s) and assure correct installation of the wiring in the flight deck overhead panels by reattaching or replacing the wire tie attachment holders and securing any loose wires to the wire tie attachment holders with plastic wire ties | Before further flight after each inspection required in paragraph (e)(1) of this AD. Continue to repetitively inspect as specified in paragraph (e)(1) of this AD | Follow RUAG AOT Dornier 228, All Operators Telefax service information No. AOT-228-24-028, Date of Issue: November 9, 2005.
(3) If you do not find any chafed or damaged wires during any inspection required in paragraph (e)(1) of this AD, assure correct installation of the wiring in the flight deck overhead panels by reattaching or replacing the wire tie attachment holders and securing any loose wires to the wire tie attachment holders with plastic wire ties | Before further flight after each inspection required in paragraph (e)(1) of this AD. Continue to repetitively inspect as specified in paragraph (e)(1) of this AD | Follow RUAG AOT Dornier 228, All Operators Telefax service information No. AOT-228-24-028, Date of Issue: November 9, 2005.

Alternative Methods of Compliance (AMOCs)

(f) The Manager, Standards Office, Small Airplane Directorate, FAA, ATTN: Karl Schletzbaum, Aerospace Engineer, FAA, Small Airplane Directorate, 901 Locust, Room 301, Kansas City, Missouri 64106; telephone: (816) 329-4146; fax: (816) 329-4090, has the authority to approve AMOCs for this AD, if requested using the procedures found in 14 CFR 39.19.

Related Information

(g) German AD Number D-2005-438, Effective Date: December 14, 2005, also addresses the subject of this AD. To get copies of the documents referenced in this AD, contact RUAG Services GmbH, P.O. Box 1253, D-82231 Wessling; telephone: (08153) 302506; fax: (08153) 304601. To view the AD docket, go to the Docket Management Facility; U.S. Department of Transportation, 400 Seventh Street, SW., Nassif Building, Room PL-401, Washington, DC, or on the Internet at http://dms.dot.gov. The docket number is Docket No. FAA-2006-24095; Directorate Identifier 2006-CE-21-AD.

Issued in Kansas City, Missouri, on March 22, 2006.
William J. Timberlake,
Acting Manager, Small Airplane Directorate, Aircraft Certification Service.

[FR Doc. E6-4556 Filed 3-28-06; 8:45 am]

BILLING CODE 4910-13-P